DEPARTMENT OF COMMERCE

National Oceanic and Atmospheric Administration

[I.D.041403I]

Endangered and Threatened Wildlife; Sea Turtle Conservation Requirements

AGENCY: National Marine Fisheries Service (NMFS), National Oceanic and Atmospheric Administration (NOAA), Commerce.

ACTION: Notice of Issuance of permit.

SUMMARY: Notice is hereby given that shrimp fishermen in the Gulf and Atlantic Areas have been issued a permit to use Turtle Excluder Devices (TEDs) in accordance with allowable configurations under a final rule amending the TED regulations February 21, 2003, prior to the final rule taking effect. The permit allows fishermen to use the new TEDs to maximize shrimp retention and eliminate operational difficulties and facilitates fishermen's transition to the new TED configurations.

ADDRESSES: The permit and related documents are available for review upon written request or by appointment in the following office:

Southeast Region, NMFS, 9721 Executive Center Drive North, St. Petersburg, FL 33702-2432; phone (727)570-5301; fax (727)570-5320.

FOR FURTHER INFORMATION CONTACT: David Bernhart (david.bernhart@noaa.gov) or Robert Hoffman (robert.hoffman@noaa.gov), (727)570-5312.

SUPPLEMENTARY INFORMATION: On February 21, 2003, NMFS published a final rule (68 FR 8456) amending the TED regulations affecting shrimp trawl fishermen. The final rule takes effect April 15, 2003, in the Atlantic Area and August 21, 2003, in the Gulf Area. The primary element of the final rule is the requirement for fishermen to modify the openings of their TEDs to allow the escape of large sea turtles.

On March 14, 2003, the NMFS Southeast Region, received an application for a permit from Mr. Noah Saunders, Jr., on behalf of shrimp trawl fishermen in the Gulf and South Atlantic. The request was for fishermen to be allowed to use the gear configurations specified in the final rule amending the TED regulations, during the transition period before the final rule takes effect. NMFS, Southeast Region accepted the request as an application under 50 CFR 223.207(e)(2), which provides that NMFS may issue permits, subject to such conditions and restrictions as NMFS deems appropriate, authorizing public or private experimentation aimed at improving shrimp retention efficiency of existing approved TEDs and at developing additional TEDs. The authority to issue such permits has been delegated to the NMFS Southeast Regional Administrator.

The TED configurations that will be required when the final rule takes effect generally match or exceed the current regulatory standards for TEDs. Thus, fishermen who transition to the new TED configurations, in advance of the rule taking effect, would be in compliance with both the current and future regulatory requirements. The final rule does lift two restrictions on TED configurations under the current regulations. Specifically: (a) currently, accelerator funnels may not be used with the double cover TED. Under the final rule, double cover offshore TEDs may be used with an accelerator funnel. The inside horizontal opening of the funnel must be at least 71 inches ( 180 cm) in offshore waters and in the inshore waters of Georgia and South Carolina and at least 44 inches (112 cm) in all other inshore waters; and (b)currently, webbing flaps on bottom-opening TEDs in the Shrimp Fishery-Sea Turtle Conservation Areas (SFSTCAs) must be shortened to extend no further than the posterior edge of the TED grid. Under the final rule, the 71-inch (180 cm) offshore TED may be used with a webbing flap extending up to 24 inches (61 cm) behind the posterior edge of the grid on top- and bottom-opening TEDs, in all waters, including the Shrimp Fishery-Sea Turtle Conservation Areas (SFSTCAs).

Because the final rule did not contain any special provisions for the transition period between its publication and effective dates, the specific changes in the final rule that are more permissive than the current TED requirements are technically not approved changes until the final rule takes effect. NMFS, in issuing the final rule however, determined that the newly required 71-inch (180 cm) and double cover offshore TEDs are far more effective than the TEDs approved under the current regulations and that the new TEDs can be used effectively with these changes. Mr. Saunders' permit application requested that fishermen be allowed to use TED configurations, consistent with the final rule and including these more permissive changes, prior to the final rule taking effect.

Permit Issuance

On March 26, 2003, the Southeast Regional Administrator, NMFS, issued the requested permit, pursuant to 50 CFR 223.207(e)(2). Issuance of the permit is necessary to encourage the early transition by shrimp fishermen to the use of more effective TEDs, furthering NMFS' goal of sea turtle conservation. The newly required TEDs are more effective at releasing sea turtles than those currently required. The use of a funnel with the double cover offshore TED and a long flap with the 71-inch (180 cm) offshore TED have already been determined by NMFS to be effective modifications that may enhance shrimp retention on these highly effective TEDs. This permit will remove regulatory barriers to fishermen's transition to the newly required TEDs and will allow them to experiment with gear configurations to maximize their shrimp retention, prior to the final rule coming into effect.

Dated: April 21, 2003.
Laurie K. Allen,
Acting Director, Office of Protected Resources, National Marine Fisheries Service.

[FR Doc. 03-10283 Filed 4-24-03; 8:45 am]

BILLING CODE 3510-22-P